DEPARTMENT OF STATE

[Public Notice: 7237]

The Secretary of State's International Council on Women's Business Leadership

AGENCY: Department of State.

ACTION: Notice of intent to establish an advisory committee.

The Secretary of State announces an intent to establish the International Council on Women's Business Leadership, in accordance with the Federal Advisory Committee Act.

Nature and Purpose: The Council will provide advice and assistance in the formulation of U.S. policy, positions, proposals and strategies for multilateral and bilateral negotiations, business outreach and commercial diplomacy, particularly pertaining to the economic empowerment of women for global economic prosperity where the State Department has the lead negotiating authority. The objective of the Council is to bring to the United States Government a source of expertise, knowledge and insight not available within the Department or elsewhere in the government on these issues.

Other information: It is anticipated that the Council will meet at least once a year and at such other times and places as are required to fulfill the objectives of the Council. The Department of State affirms that the advisory committee is necessary and in the public interest.

For further information, please contact: Nancy Smith-Nissley at (202) 647-1682.

Dated: December 20, 2010.
Lorraine Hariton
Special Representative, Office of Commercial & Business Affairs, U.S. Department of State.

[FR Doc. 2010-32884 Filed 12-29-10; 8:45 am]

BILLING CODE 4710-07-P